OFFICE OF PERSONNEL MANAGEMENT

Submission for Review: CyberCorps®: Scholarship for Service (SFS) Registration Web Site

AGENCY: Office of Personnel Management.

ACTION: 60-Day notice and request for comments.

SUMMARY: Office of Personnel Management (OPM), Staff Acquisition Group, offers the general public and other Federal agencies the opportunity to comment on an emergency processing request for reinstatement, without change, of a previously approved information collection request (ICR) 3206-0246, Scholarship for Service Program Registration Web site, for which approval has expired. The Cyber Corps®: Scholarship for Service (SFS) program is designed to help Federal agencies find the talent they need to protect the government's critical information infrastructure. This program provides scholarships to students in cybersecurity fields in exchange for government service upon graduation. OPM is requesting the Office of Management and Budget (OMB) take action on the information collection reinstatement within five (5) calendar days of the request.

DATES: Comments are encouraged and will be accepted until February 9, 2018.

ADDRESSES: Interested persons are invited to submit written comments on the proposed information collection to the Office of Personnel Management, Mid-Atlantic Services Branch, 200 Granby Street, Suite 500, Norfolk, VA 23510-1886, Attention: Stephanie Travis or sent via electronic mail to sfs@opm.gov.

FOR FURTHER INFORMATION CONTACT: A copy of this ICR, with applicable supporting documentation, may be obtained by contacting the Mid-Atlantic Services Branch, 200 Granby Street, Suite 500, Norfolk, VA 23510-1886, Attention: Stephanie Travis or sent via electronic mail to sfs@opm.gov.

SUPPLEMENTARY INFORMATION: This notice announces OPM has submitted to OMB a request for emergency review of a previously approved information collection request (ICR) 3206-0246, Scholarship for Service Program Registration Web site. OPM requests OMB take action on this reinstatement within five (5) calendar days of receiving the request. As required by the Paperwork Reduction Act of 1995, (Pub. L. 104-13, 44 U.S.C. chapter 35) as amended by the Clinger-Cohen Act (Pub. L. 104-106), OPM is soliciting comments for this collection (ICR 3206-0246). OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Scholarship for Service Program was established by the National Science Foundation (NSF), in collaboration with the Office of Personnel Management (OPM) and the Department of Homeland Security (DHS), in accordance with the Cybersecurity Enhancement Act of 2014 (Pub. L. 113-274). NSF partners with OPM's Human Resources Solutions (HRS), under a reimbursable agreement, to support this initiative by administering the program. This initiative reflects the critical need for Information Technology (IT) professionals, industrial control system security professionals, and security managers in Federal, State, local and tribal governments. Students identified by their institutions for SFS Scholarships must meet selection criteria based on prior academic performance, likelihood of success in obtaining the degree, and suitability for government employment. Upon graduation, scholarship recipients are required to work a period equal to the length of their scholarship in Federal, State, Local or Tribal Government or in other approved organization as cybersecurity professionals. Approval of the Web page is necessary to facilitate the timely registration, selection and placement of program-enrolled students in Government agencies. OPM has taken all practicable steps to consult with Federal agency stakeholders and the public to minimize the burden of this information collection request. OPM conducted a Privacy Impact Assessment on May 3, 2017.

Analysis

Agency: CyberCorps®: Scholarship for Service Program, Staff Acquisition Group, Office of Personnel Management.

Title: Scholarship for Service (SFS) Program Internet Site.

OMB Number: 3206-0246.

Frequency: Annually.

Affected Public: Individuals or Households.

Number of Respondents: 630.

Estimated Time per Respondent: 1 hour.

Total Burden Hours: 630 hours.

Office of Personnel Management.
Kathleen M. McGettigan,
Acting Director.

[FR Doc. 2017-26614 Filed 12-8-17; 8:45 am]

BILLING CODE 6325-43-P